DEPARTMENT OF HOUSING AND URBAN DEVELOPMENT

[Docket No. FR-4562-0901]

Notice of Proposed Information Collection for Public Comment: Assessing the Effectiveness of HUD2020 Management Reforms_Fair Housing Opinions

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comments Due Date: July 11, 2000.

ADDRESSES: Interested persons are invited to submit comments regarding this proposal. Comments should refer to the proposal by name and should be sent to: Reports Liaison Officer, Office of Policy Development and Research, Department of Housing and Urban Development, 451 Seventh Street, SW., Room 8226, Washington, DC 20410.

FOR FURTHER INFORMATION CONTACT: Paul B. Dornan, Department of Housing and Urban Development, 451 7th Street, SW., Washington, DC 20410; telephone (202) 708-0574, extension 4486 (this is not a toll-free number). Copies of the proposed data collection instruments and other available documents may be obtained from Mr. Dornan.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g, permitting electronic submission of responses.

This Notice also lists the following information:

Title of Proposal: Assessing the Effectiveness of HUD 2020 Management Reforms.

Description of the need for the information and proposed use: The Department is conducting under contract an assessment of the impact of the management reforms that the Department has implemented collectively under the name “HUD2020”. As part of that assessment, the Department proposes to survey the opinions of the people and organizations HUD works with to implement its programs, in particular, local elected officials, housing agency community development directors, Fair Housing Assistance Program agencies, owners of HUD-assisted multifamily projects and nonprofit organizations concerning the effect of the HUD2020 reforms.

Members of affected public: Members of the following groups selected by random assignment: Local chief elected officials; community development directors; housing authority directors; owners of HUD-assisted multifamily housing projects; representatives of nonprofit organizations; and fair housing assistance program agency directors.

Estimation of the total numbers of hours needed to prepare the information collection including number of respondents, frequency of response, and hours of response: The researchers will survey representatives of the partner groups once for the baseline survey. 4,000 participants will be surveyed in all; the surveys are expected to last 10 minutes. This constitutes a total burden hour estimate of 666⅔ burden hours.

Status of the proposed information collection: Pending OMB approval.

Authority: Section 3506 of the Paperwork Reduction Act of 1995, 44 U.S.C. Chapter 35, as amended.

Dated: May 4, 2000.
Lawrence L. Thompson,
Deputy Assistant Secretary for Policy Development.

[FR Doc. 00-11896 Filed 5-11-00; 8:45 am]

BILLING CODE 4210-62-M